DEPARTMENT OF COMMERCE

National Oceanic and Atmospheric Administration

[I.D. 102406C]

Nominations for the Annual Sustainable Fisheries Leadership Awards for 2007; Extension of Nomination Deadline

AGENCY: National Marine Fisheries Service (NMFS), National Oceanic and Atmospheric Administration (NOAA), Commerce.

ACTION: Notice; extension of nomination deadline.

SUMMARY: NOAA has established the Sustainable Fisheries Leadership Awards Program to recognize outstanding performances, achievements and leadership by industries, organizations and individuals who promote best stewardship practices for the sustainable use of living marine resources and ecosystems, and who have fostered change and inspired a stewardship ethic within their community. This notice extends the deadline for nominations for the second annual Sustainable Fisheries Leadership Awards from January 8 to January 31, 2007.

DATES: The due date for nomination forms and required supporting materials has been extended from January 8, 2007 (November 8, 2006; 71 FR 65471) to January 31, 2007.

ADDRESSES: Nominations should be sent electronically to the Fish for the Future Foundation, nominations@ fish4thefuturefoundation.org. Nominations can also be mailed to Sustainable Fisheries Leadership Awards, c/o Fish for the Future Foundation, 3382 Gunston Road, Alexandria, VA 22302, or faxed to (703) 379-5777. All information and official nomination forms can be accessed electronically at the NMFS Web site http://www.nmfs.noaa.gov/awards/ or the Fish for the Future Foundation Web site http://www.fish4thefuture foundation.org or by calling (see FOR FURTHER INFORMATION CONTACT).

FOR FURTHER INFORMATION CONTACT: Michele Shea, Fish for the Future Foundation, (703) 379-6101, Michele.Shea@fish4thefuture foundation.org or Laurel Bryant, NMFS, (301) 713-2379 x171, laurel.bryant@noaa.gov

SUPPLEMENTARY INFORMATION: NMFS published a notice in the Federal Register on November 8, 2006 (71 FR 65471) that provided background information as it relates to this nomination process. The background information is not repeated in this document. Today's notice extends the nomination deadline from January 8 to January 31, 2007.

Dated: December 12, 2006.
William T. Hogarth,
Assistant Administrator for Fisheries, National Marine Fisheries Service.

[FR Doc. E6-21613 Filed 12-18-06; 8:45 am]

BILLING CODE 3510-22-P